DEPARTMENT OF LABOR

Mine Safety and Health Administration

Proposed Information Collection Request; Submitted for Public Comment and Recommendations; Escape and Evacuation Plan

ACTION: Notice.

SUMMARY: The Department of Labor, as part of its continuing effort to reduce paperwork and respondent burden conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

Currently, the Mine Safety and Health Administration (MSHA) is soliciting comments concerning the proposed extension of the information collection related to Escape and Evacuation Plans. MSHA is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request can be obtained by contacting the employee listed below in the FOR FURTHER INFORMATION CONTACT section of this notice.

DATES: Submit comments on or before September 13, 2004.

ADDRESSES: Send comments to Melissa Stoehr, Acting Chief, Records Management Branch, 1100 Wilson Boulevard, Room 2134, Arlington, VA 22209-3939. Commenters are encouraged to send their comments on computer disk, or via e-mail to stoehr.melissa@dol.gov. Ms. Stoehr can be reached at (202) 693-9827 (voice), or (202) 693-9801 (facsimile).

FOR FURTHER INFORMATION CONTACT: Contact the employee listed in the ADDRESSES section of this notice.

SUPPLEMENTARY INFORMATION:

I. Background

Title 30, CFR § 57.11053 requires the development of an escape and evacuation plan specifically addressing the unique conditions of each underground metal and nonmetal mine. Section 57.11053 also requires that revisions be made as mining progresses. The plan must be available for review by MSHA inspectors and conspicuously posted at locations convenient to all persons on the surface and underground. The plan is required to be reviewed jointly by the mine operator and MSHA at least once every six months.

II. Current Actions

An accurate, up-to-date plan is vital to the safety of the miners and rescue personnel in the event of an underground mine emergency. The plans are periodically reviewed by MSHA personnel to ensure that plans are accurate and updated as mining progresses and that the escape routes are still effective.

Type of Review: Extension of Currently Approved Collection.

Agency: Mine Safety and Health Administration.

Title: Escape and Evacuation Plans.

OMB Number: 1219-0046.

Affected Public: Business or other for-profit institutions.

Frequency: On occasion.

Number of Respondents: 243.

Number of Responses: 486.

Estimated Time per Response: 8.5 hours.

Total Burden Hours: 4,131.

Total Burden Cost (capital/startup): $0.

Total Annual Burden Cost (operating/maintaining): $0.

Comments submitted in response to this notice will be summarized and/or included in the request for Office of Management and Budget approval of the information collection request; they will also become a matter of public record.

Dated at Arlington, Virginia, this 6th day of July, 2004.
David L. Meyer,
Director, Office of Administration and Management.

[FR Doc. 04-15768 Filed 7-12-04; 8:45 am]

BILLING CODE 4510-43-P